DEPARTMENT OF THE INTERIOR

Bureau of Land Management

[WY-090-07-1610-DP]

Notice of Availability of the Kemmerer Draft Resource Management Plan Revision and Draft Environmental Impact Statement

AGENCY: Bureau of Land Management, Interior.

ACTION: Notice of Availability.

SUMMARY: In compliance with the National Environmental Policy Act of 1969 (NEPA, 42 U.S.C. 4321 et seq.), and the Federal Land Policy and Management Act of 1976 (FLPMA, 43 U.S.C. 1701 et seq.), the Bureau of Land Management (BLM) announces the availability of the Kemmerer Draft Resource Management Plan Revision and Draft Environmental Impact Statement (DRMP/DEIS).

DATES: The Kemmerer DRMP/DEIS will be available for public review for 90 days from the date the Environmental Protection Agency (EPA) publishes its Notice of Availability (NOA) in the Federal Register. The BLM can best use comments and resource information submitted within this review period. To ensure that the public has an opportunity to comment on the DRMP/DEIS, public involvement activities will be scheduled in Cokeville, Lyman, Kemmerer, Evanston, and Rock Springs, Wyoming. All meetings, hearings or other public involvement activities will be announced at least 15 days in advance through public notices, media news releases, Web site announcements, or mailings.

ADDRESSES: Copies of the DRMP/DEIS have been sent to affected Federal, State and local governments and to interested parties. The document will be available electronically on the following Web site: http://www.blm.gov/rmp/kemmerer.Copies of the document will be available for public inspection during normal business hours at the following locations:

• Bureau of Land Management, Wyoming State Office, 5353 Yellowstone Road, Cheyenne, Wyoming 82009.

• Bureau of Land Management, Kemmerer Field Office, 312 HWY 189 N, Kemmerer, Wyoming 83101.

Comments may be submitted by any of the following methods:

• Web site: http://www.blm.gov/rmp/kemmerer.

• Facsimile: (307) 828-4539.

• Mail: Send to the contact listed below.

FOR FURTHER INFORMATION CONTACT: Michele Easley, Team Leader, BLM Kemmerer Field Office, 312 HWY 189 N, Kemmerer, Wyoming 83101. Ms. Easley may also be contacted by telephone: (307) 828-4524. Requests for information may be sent electronically to: kemmerer_wymail@blm.gov with “Attention: Kemmerer RMP Info Request” in the subject line.

SUPPLEMENTARY INFORMATION: The Kemmerer Field Office planning area is located in Lincoln, Uinta, and Sweetwater counties, Wyoming. It includes approximately 1.4 million acres of public land surface and 1.6 million acres of Federal mineral estate administered by the BLM.

The existing Kemmerer RMP was completed and its Record of Decision (ROD) signed on April 29, 1986. New information and changed conditions within the planning area have resulted in a need for the BLM to update the existing RMP. These changes include but are not limited to: increasing interest in development of domestic energy sources, including wind power; increased off-highway-vehicle use and demand for outdoor recreation opportunities; heightened public awareness of and interest in BLM management actions and permitted uses; and concerns over wildlife habitat, including sensitive species habitat and populations.

The BLM published a Notice of Intent (NOI) in the Federal Register on June 16, 2003 to prepare an RMP/EIS and initiate its revision of the Kemmerer RMP. The DRMP/DEIS describes existing conditions of the physical, biological, cultural, historic, and socioeconomic resources in and around the planning area. Based on the analyses of alternative management strategies, public input, and interdisciplinary team and cooperating agency discussions, a preferred alternative was developed to address resources such as air and water quality, crucial big game range and other wildlife habitats, scenic views, healthy vegetative cover, and soil stability, while providing for resource uses such as mineral exploration and development, wind energy development, livestock grazing, timber extraction, and motorized and non-motorized recreation. The BLM analyzed four alternatives in the DRMP/DEIS:

• Alternative A: Continuation of Existing Management (No Action): Continuation of the current management goals, objectives, and direction specified in the Kemmerer RMP and ROD (1986).

• Alternative B: Provide a high level of environmental protection for wildlife habitat and other resource values, while allowing the production of resource commodities.

• Alternative C: Maximize the production of resource commodities while providing an adequate level of environmental protection for other resources.

• Alternative D (BLM's Preferred Alternative): Optimize the mix of resource outputs, including production of resource commodities and wildlife habitat while providing enhancement of environmental protection for all resources.

Ten areas were proposed for consideration as Areas of Critical Environmental Concern (ACEC): The Transcontinental Railroad; Raymond Mountain Expansion Area—existing and expansion; the Dry Fork, Upper Tributary, and Lower Tributary watersheds; Bridger Butte; White-tailed Prairie Dog colonies; the Fossil Basin; Special status plant species habitats; and Cushion plant communities. The BLM found that nine of these areas meet relevance and importance criteria, and effects of including these proposals were analyzed. One (Transcontinental Railroad) did not meet the relevance criteria for ACEC consideration. Currently one ACEC, Raymond Mountain, exists within the planning area. This area was included for consideration of retention. In summary, the areas meeting relevance and importance criteria are as follows:

• Raymond Mountain Expansion (33,928 potential acres): Values of critical concern are wildlife and fisheries habitat. Management limitations—maintaining and enhancing riparian resources and wildlife habitat in the area.

• Dry Fork Watershed (4,690 potential acres): Values of critical concern are wildlife and fisheries habitat. Management limitations—maintaining and enhancing riparian resources and wildlife habitat in the area.

• Upper Tributary Watershed (5,595 potential acres): Values of critical concern are wildlife and fisheries habitat. Management limitations—maintaining and enhancing riparian resources and wildlife habitat in the area.

• Lower Tributary Watersheds (1,371 potential acres): Values of critical concern are wildlife and fisheries habitat. Management limitations—maintaining and enhancing riparian resources and wildlife habitat in the area.

• Bridger Butte (1,127 potential acres): Values of critical concern are Native American concerns, cultural and historic properties, and special status plant communities. Management limitations—limit surface uses to preserve surface and visual values.

• White-tailed Prairie Dog colonies (30,913 potential acres): Values of critical concern are white-tailed prairie dog habitats. Management limitations—limit surface disturbance to preserve prairie dog colonies, individuals, and their habitat.

• Fossil Basin (451,452 potential acres): Values of critical concern are the preservation and scientific research of the paleontological resource. Management limitations—preserve the fossil resources for scientific study and prevent destruction of the paleontological resource.

• Special status plant species habitats (907 acres currently identified): Values of critical concern are special status plant species including Trelease's Milkvetch (Astragalus racemosus var. treleasei), Entire-Leaved Peppergrass (Lepidium integrifolium var. integrifolium), Large-fruited Bladderpod (Lesquerella macrocarpa), Western Bladderpod (Lesquerella multiceps), Prostrate Bladderpod (Lesquerella prostrata), Beaver Rim Phlox (Phlox pungens), Tufted Twinpod (Physaria condensata), and Dorn's Twinpod (Physaria dornii). Use restrictions would be designed to protect the identified plant habitat and would include closure to surface activities that would remove the plant communities from the soil or alter soil chemistry. These areas are proposed for withdrawal from locatable mineral entry. Identified habitat areas will be assessed during the life of the plan for addition to the ACEC.

• Cushion Plant Communities (61 acres currently identified): Values of critical concern are uncommon and regional endemic plant species communities. Typical plant associations found in these areas include different species of phlox, twin pods, bladderpods, and many legume species. Use restrictions in the ACEC would include closure to surface activities that would remove the plant communities from the soil or alter soil chemistry. The ACEC is proposed for withdrawal from locatable mineral entry. Areas of known cushion plant communities would be assessed during the life of the plan for addition to the ACEC. The current known endemic cushion plant community that exists northeast of Kemmerer would be included in the ACEC.

• Raymond Mountain (13,926 acres): Values of critical concern are Bonneville cutthroat trout habitat and associated riparian resources. Management limitations—maintaining and enhancing riparian resources in the area.

With Alternative D (BLM Preferred Alternative), the BLM proposes to establish the Bridger Butte (727 acres); Special status plant species (907 acres); and Cushion plant community (61 acres) ACECs; and retain the Raymond Mountain ACEC (13,926 acres). More detailed management prescriptions for these areas are provided in Table 2-3 of the DRMP/DEIS.

Alternative D establishes four Special Recreation Management Areas (SMRAs): Pine Creek Canyon, Raymond Mountain, Dempsey Ridge and Oregon-California National Historic Trails. Alternative D also describes special management objectives and prescriptions for Rock Creek/Tunp and the Bear River Divide.

Under Alternative D, two rivers are determined to meet suitability factors for further consideration for inclusion in the National Wild and Scenic Rivers System. These are Huff Creek (7.31 miles) and Raymond Creek (4.10 miles). Both waterways are located within the Raymond Mountain WSA.

Alternative D opens 3,963 acres for consideration of future coal leasing. The proposed coal lease area is situated in T. 17 N., R. 117 W., Section 18, 20, 30, and 32; T. 16 N., R. 118 W., Section 2; 17 N., R. 118 W., Section 24.

The DRMP/DEIS considered oil and gas, coal, and wind energy development in support of the National Energy Policy and the Energy Policy Act of 2005 in areas with high potential for energy development.The DRMP/DEIS considers and is in conformance with the BLM's National Fire Plan and Healthy Forest Initiative. Since the publication of the NOI in the Federal Register, the BLM solicited public comments and input through open houses, newsletters, a public Web site and mailings. Meetings were held to provide the public with an opportunity to gain information about the RMP revision process and to submit comments. Public meetings were held in the following Wyoming communities: Kemmerer, November 17, 2003; Evanston, November 18, 2003; and Rock Springs, November 19, 2003. During the scoping period, the BLM received over 1,000 public comments. Cooperating agencies assisting BLM in the development and preparation of the DRMP/DEIS include county governments, conservation districts, other Federal agencies and the State of Wyoming. The BLM contacted tribal governments with possible interests and offered opportunities for participation in the plan revision process. In preparation of the DRMP/DEIS, the BLM considered all comments presented throughout the process. Background information and maps used in developing the DRMP/DEIS are available for public review at the Kemmerer Field Office. The BLM welcomes your comments. To facilitate analysis of comments and information the public is encouraged to submit comments in an electronic format through either the Web site identified in this notice or through electronic mail. All comment submittals must include the commenter's name and street address. Individual respondents may request confidentiality. Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

Robert A. Bennett,
State Director.

[FR Doc. E7-13702 Filed 7-12-07; 8:45 am]

BILLING CODE 4310-22-P